CONSUMER PRODUCT SAFETY COMMISSION

Sunshine Act Meeting; Notice

AGENCY: U.S. Consumer Product Safety Commission

TIME AND DATE: Wednesday, January 26, 2000, 2:00 p.m.

LOCATION: Room 410, East-West Towers, 4330 East West Highway, Bethesda, Maryland.

STATUS: Closed to the Public.

Matter to be Considered:

Compliance Status Report:

For a recorded message containing the latest agenda information, call (301) 504-0709.

CONTACT PERSON FOR ADDITIONAL INFORMATION: Sadye E. Dunn, Office of the Secretary, 4330 East West Highway, Bethesda, MD 20207 (301) 504-0800.

Dated: January 14, 2000.
Sadye E. Dunn,
Secretary.

[FR Doc. 00-1565 Filed 1-18-00; 3:39 pm]

BILLING CODE 6355-01-M